DEPARTMENT OF COMMERCE

National Oceanic and Atmospheric Administration

[Docket No. 070817470-8113-04]

RIN 0648-ZB55

Availability of Grant Funds for Fiscal Year 2008

AGENCY: National Oceanic and Atmospheric Administration (NOAA), Department of Commerce (DOC).

ACTION: Notice.

SUMMARY: NOAA publishes this notice to supplement the agency's solicitation for applications published on July 2, 2007 in an action entitled “Availability of Grant Funds for Fiscal Year 2008” (72 FR 36244). This notice announces 3 additional programs that are soliciting applications for FY 08 funding. In addition, NOAA publishes this notice to change the funding years associated with awards for the solicitation “FY 2008 Implementation of Regional Integrated Ocean Observing Systems” announced in the Federal Register on July 2, 2007 (72 FR 36244, 36263) and amended on November 15, 2007 (72 FR 64047).

DATES: Proposals must be received by the date and time specified under each program listed in the SUPPLEMENTARY INFORMATION section of this document.

ADDRESSES: Proposals must be submitted to the program address listed in the SUPPLEMENTARY INFORMATION section of this document. NOAA's discretionary grant fund notices may be found on the internet at Grants.gov. The URL for Grants.gov is http://www.grants.gov.

FOR FURTHER INFORMATION CONTACT: For those without Internet access request a copy of the full funding opportunity announcement and/or application kit, from the person listed as the information contact under each program.

SUPPLEMENTARY INFORMATION: Applicants must comply with all requirements contained in the Federal Funding Opportunity announcement for each of the programs listed in this omnibus notice. These Federal Funding Opportunities are available at http://www.grants.gov.

The list of grant opportunities under NOAA Project Competitions (below) describe the basic information and requirements for the competitive grant/cooperative agreement programs offered by NOAA. These programs are open to anyone who meets the eligibility criteria specified under each grant. To be considered for an award in a competitive grant/cooperative agreement program, eligible applicants must submit a complete and responsive application to the appropriate address by the deadline specified in this notice. An award is made upon conclusion of the evaluation and selection process for the respective program.

TABLE OF CONTENTS

I. Background

II. NOAA Project Competitions

National Marine Fisheries Service (NMFS)

1. 2009 Mid-Atlantic Research Set-Aside Program

2. Pacific Coastal Salmon Recovery Fund

National Weather Service (NWS)

1. Remote Community Alert Systems Program

III. Classification

IV. NOAA Project Competitions Listed by NOAA Mission Goals

1. Protect, Restore and Manage the Use of Coastal and Ocean Resources Through Ecosystem-Based Management

Coastal areas are among the most developed in the Nation. More than half the population lives on less than one-fifth of the land in the contiguous United States. Furthermore, employment in near shore areas is growing three times faster than population. Coastal and marine waters support over 28 million jobs and provide a tourism destination for nearly 90 million Americans a year. The value of the ocean economy to the United States is over $115 billion. The value added annually to the national economy by the commercial and recreational fishing industry alone is over $48 billion. U.S. aquaculture sales total almost $1 billion annually. With its Exclusive Economic Zone of 3.4 million square miles, the United States manages the largest marine territory of any nation in the world.

Funded proposals should help achieve the following outcomes:

1. Healthy and productive coastal and marine ecosystems that benefit society

2. A well-informed public that acts as a steward of coastal and marine ecosystems

Program Names:

1. 2009 Mid-Atlantic Research Set-Aside Program

2. Pacific Coastal Salmon Recovery Fund

2. Serve Society's Needs for Weather and Water Information

Floods, droughts, hurricanes, tornadoes, tsunamis, wildfires, and other severe weather events cause $11 billion in damages each year in the United States. Weather is directly linked to public health and safety, and nearly one-third of the U.S. economy (about $3 trillion) is sensitive to weather and climate. With so much at stake, NOAA's role in understanding, observing, forecasting, and warning of environmental events is expanding. With our partners, we seek to provide decision makers with key observations, analyses, predictions, and warnings for a range of weather and water conditions, including those related to water supply, air quality, space weather, and wildfires. Businesses, governments, and nongovernmental organizations are getting more sophisticated about how to use this weather and water information to improve operational efficiencies, to manage environmental resources, and to create a better quality of life. On average, hurricanes, tornadoes, tsunamis, and other severe weather events cause $11 billion in damages per year. Weather, including space weather, is directly linked to public safety and about one-third of the U.S. economy (about $3 trillion) is weather sensitive. With so much at stake, NOAA's role in observing, forecasting, and warning of environmental events is expanding, while economic sectors and its public are becoming increasingly sophisticated at using NOAA's weather, air quality, and water information to improve their operational efficiencies and their management of environmental resources, and quality of life.

Funded proposals should help achieve the following outcomes:

1. Reduced loss of life, injury, and damage to the economy

2. Better, quicker, and more valuable weather and water information to support improved decisions

3. Increased customer satisfaction with weather and water information and services

Program Names:

1. Remote Community Alert Systems Program

3. Understand Climate Variability and Change To Enhance Society's Ability To Plan and Respond

Climate shapes the environment, natural resources, economies, and social systems that people depend upon worldwide. While humanity has learned to contend with some aspects of climate's natural variability, major climatic events, combined with the stresses of population growth, economic growth, public health concerns, and land-use practices, can impose serious consequences on society. The 1997-98 El Nino, for example, had a $25 billion impact on the U.S. economy-property losses were $2.6 billion and crop losses approached $2 billion. Long-term drought leads to increased and competing demands for fresh water with related effects on terrestrial and marine ecosystems, agricultural productivity, and even the spread of infectious diseases. Decisions about mitigating climate change also can alter economic and social structures on a global scale. We can deliver reliable climate information in useful ways to help minimize risks and maximize opportunities for decisions in agriculture, public policy, natural resources, water and energy use, and public health. We continue to move toward developing a seamless suite of weather and climate products. The Climate Goal addresses predictions on time scales of up to decades or longer.

Funded proposals should help achieve the following outcomes:

1. A predictive understanding of the global climate system on time scales of weeks to decades with quantified uncertainties sufficient for making informed and reasoned decisions

2. Climate-sensitive sectors and the climate-literate public effectively incorporating NOAA's climate products into their plans and decisions

Program Names:

No Programs are currently soliciting applications for this mission goal.

4. Support the Nation's Commerce With Information for Safe, Efficient, and Environmentally Sound Transportation

Safe and efficient transportation systems are crucial to the U.S. economy. The U.S. marine transportation system ships over 95 percent of the tonnage and more than 20 percent by value of foreign trade through U.S. ports, including 48 percent of the oil needed to meet America's energy demands. At least $4 billion is lost annually due to economic inefficiencies resulting from weatherrelated air-traffic delays. Improved surface weather forecasts and specific user warnings would reduce the 7,000 weather related fatalities and 800,000 injuries that occur annually from crashes on roads and highways. The injuries, loss of life, and property damage from weather-related crashes cost an average of $42 billion annually. We provide information, services, and products for transportation safety and for increased commerce on roads, rails, and waterways. We will improve the accuracy of our information for marine, aviation, and surface weather forecasts, the availability of accurate and advanced electronic navigational charts, and the delivery of real-time oceanographic information. We seek to provide consistent, accurate, and timely positioning information that is critical for air, sea, and surface transportation. We will respond to hazardous material spills and provide search and rescue routinely to save lives and money and to protect the coastal environment. We will work with port and coastal communities and with Federal and state partners to ensure that port operations and development proceed efficiently and in an environmentally sound manner. We will work with the Federal Aviation Administration and the private sector to reduce the negative impacts of weather on aviation without compromising safety. Because of increased interest by the public and private sectors, we also will expand weather information for marine and surface transportation to enhance safety and efficiency.

Funded proposals should help achieve the following outcomes:

1. Safe, secure, efficient, and seamless movement of goods and people in the U.S. transportation system

2. Environmentally sound development and use of the U.S. transportation system.

Program Names:

No programs are currently soliciting applications for this mission goal.

5. Provide Critical Support for NOAA's Mission

Strong, effective, and efficient support activities are necessary for us to achieve our Mission Goals. Our facilities, ships, aircraft, environmental satellites, data processing systems, computing and communication systems, and our approach to management provide the foundation of support for all of our programs. This critical foundation must adapt to evolving mission needs and, therefore, is an integral part of our strategic planning. It also must support U.S. homeland security by maintaining continuity of operations and by providing NOAA services, such as civil alert relays through NOAA Weather Radio and air dispersion forecasts, in response to national emergencies. NOAA ships, aircraft, and environmental satellites are the backbone of the global Earth observing system and provide many critical mission support services. To keep this capability strong and current with our Mission Goals, we will ensure that NOAA has adequate access to safe and efficient ships and aircraft through the use of both NOAA platforms and those of other agency, academic, and commercial partners. We will work with academia and partners in the public and private sectors to ensure that future satellite systems are designed, developed, and operated with the latest technology. Leadership development and program support are essential for achieving our Mission Goals. We must also commit to organizational excellence through management and leadership across a “corporate” NOAA. We must continue our commitment to valuing NOAA's diverse workforce, including effective workforce planning strategies designed to attract, retain and develop competencies at all levels of our workforce. Through the use of business process re-engineering, we will strive for state-of-the-art, value-added financial and administrative processes. NOAA will ensure state-of-the-art and secure information technology and systems. By developing long-range, comprehensive facility planning processes, NOAA will be able to ensure right-sized, cost-effective, and safe facilities

Funded proposals should help achieve the following outcomes:

1. A dynamic workforce with competencies that support NOAA's mission today and in the future.

Program Names:

No programs are currently soliciting applictions for this mission goal.

I. Background

In this notice, NOAA announces that 3 programs are making funds available for financial assistance awards. Each entry for the following grant opportunities provides: a description of the program, funding availability, statutory authority, catalog of federal domestic assistance (CFDA) number, application deadline, address for submitting proposals, information contacts, eligibility requirements, cost sharing requirements, and intergovernmental review under Executive Order 12372. Interested applicants should consult the July 2, 2007 Federal Register Notice entitled “Availability of Grant Funds for Fiscal Year 2008” (72 FR 36244) notice for the selection criteria, evaluation criteria, and other requirements for submitting an application.

In addition, NOAA publishes this notice to change the funding years associated with awards for the solicitation “FY 2008 Implementation of Regional Integrated Ocean Observing Systems” announced in the Federal Register on July 2, 2007 (72 FR 36263) and amended on November 15, 2007 (72 FR 64047). Total anticipated funding for all awards is approximately $25,000,000 and is subject to the availability of FY 2008 and/or FY 2009 appropriations. The previous announcement indicated that awards were subject to the availability of FY 2008 appropriations only, however, this amendment changes this process to allow FY 2008 and/or FY 2009 appropriations to be used. This notice applies to all applicants who have previously submitted a full proposal under this announcement. All other requirements for this solicitation remain the same.

II. NOAA Project Competitions

National Marine Fisheries Service (NMFS)

1. 2009 Mid-Atlantic Research Set-Aside Program

Summary Description: NMFS announces that, for fishing year 2009 (January 1-December 31, 2009), the Mid-Atlantic Fishery Management Council (Council) may set aside up to 3 percent of the total allowable landings (TAL) in certain Mid-Atlantic fisheries to be used for research endeavors under a research set-aside (RSA) program. The RSA program provides a mechanism to fund research and compensate vessel owners through the sale of fish harvested under the research quota. Vessels participating in an approved research project may be authorized by the Northeast Regional Administrator, NMFS, to harvest and land fish in excess of any imposed trip limit or during fishery closures. Landings from such trips are sold to generate funds that help defray the costs associated with the approved research projects. No Federal funds are provided for research under this notification. NMFS is soliciting proposals for research activities concerning the summer flounder, scup, black sea bass, Loligo squid, Illex squid, Atlantic mackerel, butterfish, Atlantic bluefish, and tilefish fisheries. NMFS and the Council will give priority to funding proposals addressing the research needs as follows: Loligo Squid and Butterfish Interactions: Mesh selectivity study of butterfish and secondarily for other species caught in Loligo nets during winter and summer/early fall; Test gear modifications in the Loligo squid fishery to reduce bycatch of butterfish and other species. Illex Squid: Determine size and age-at-maturity and growth parameters for Illex squid. Summer Flounder: Define distinctions between regulatory discards and bycatch attributed to gear, including mesh selectivity and/or overall gear design in the summer flounder fishery; Evaluate mortality of large fish released in the summer flounder offshore trawl fishery; Evaluate size and bag limits in the recreational fishery for summer flounder. Black Sea Bass: Estimate black sea bass mortality when left in pots (moderate priority); Develop indices for black sea bass recruitment (proof of concept); Verify age structure of black sea bass. Scup: Estimate the components of scup total annual mortality (natural, commercial landings, recreational landings, commercial discards, & recreational discards); Develop indices for scup recruitment (proof of concept). Bluefish: Develop bluefish index surveys (proof of concept).

Funding Availability: No Federal funds are provided for research under this notification, this program offers the opportunity to fish and to sell the catch to generate income. The Federal Government may issue an Exempted Fishing Permit (EFP) or Letter of Acknowledgment (LOA), as applicable, which may provide special fishing privileges in response to research proposals selected under this program. Funds generated from the RSA landings shall be used to cover the cost of the research activities, including vessel costs, and to compensate boats for expenses incurred during the collection of the set-aside species. For example, the funds may be used to pay for gear modifications, monitoring equipment, additional provisions (e.g., fuel, ice, food for scientists), or the salaries of research personnel. The Federal Government is not liable for any costs incurred by the researcher or vesse lowner. Any additional funds, generated through the sale of fish harvested under the research quota, above the cost of the research activities shall be retained by the vessel owner as compensation for the use of his/her vessel. In the past, two to five awards have been issued per year. During the 2007 fishing year, four awards were approved distributing a total of 2,218,146 lbs of TAL. The Council, in consultation with the Commission, will incorporate the level of RSA (amounts or percentages) for each of the set-aside species for the 2009 fishing year into the Council's recommendations for annual quota specifications. NMFS will consider the recommended level of RSA as part of the associated rulemaking process. The actual level of RSA quota available to applicants for the 2009 fishing year will depend on the TAL level specified by the Council at its quota-setting meetings in June and August 2008, and the percentage (0 to 3 percent) of the TAL recommended by the Council and approved by NMFS as the level of RSA available for 2009. To help researchers develop proposals for the 2009 fishing year, the examples below provide some guidance on the general magnitude of RSA and estimated values that a researcher might expect to be available for fishing year 2009. The examples are based on proposed RSA levels available and the actual allocated RSA amounts for these fisheries for the 2008 fishing year. The examples are intended only as a guide to be used when developing research proposals for the 2009 fishing year; it does not necessarily reflect the actual RSA quota that will be allocated for fishing year 2009. Based on Council recommendations, NMFS may choose to adopt less than 3 percent of TAL as a set-aside, or decide not to adopt any set-aside for a given fishery. The estimated values of the set-aside allocations will vary depending on market considerations prevailing at the time the research trips are conducted. Examples of RSA amounts based on 2008 proposed FMP Specifications in the following format is as follows: Allocation Species/Amount Available (lbs)/2008 RSA Amount (lbs)/2008 RSA Estimated Value, Summer Flounder/$349,200/233,192/$478,044, Scup/220,200/214,000/$196,880, Black Sea Bass/243,000/85,790,$211,901, Loligo Squid/1,124,356/50,000/$39,500, Illex Squid/None requested, Atlantic Mackerel/None requested, Butterfish/None requested, Bluefish/743,965/50,000/$18,000, Tilefish/None requested. The amount available was based 3 percent TAC in proposed FMP specifications.

Statutory Authority: Statutory authority for this program is provided under sections 303(b)(11), 402(e), and 404(c) of the Magnuson-Stevens Fishery Conservation and Management Act, 16 U.S.C. 1853(b)(11), 16 U.S.C. 1881a(e), and 16 U.S.C. 1881(c), respectively. Statutory authority for entering into cooperative agreements and other financial agreements with nonprofit organizations is found at 15 U.S.C. 1540. The award of a set-aside from the TAL of selected species resulted from the approval of Framework 1 to the Atlantic Mackerel, Squid, and Butterfish; Summer Flounder, Scrup, and Black Sea Bass; and Atlantic Bluefish Fishery Management Plans (FMP); and the RSA provisions of the Tilefish FMP. Framework 1 established a procedure through which RSA amounts are set annually as part of the Council quota-setting process (66 FR 42156, August 10, 2001), and codified in regulations at 50 CFR 648.21(g).

Catalog of Federal Domestic Assistance (CFDA) Number: 11.454, Unallied Management Projects

Application Deadline: Applications must be received on or before 5 p.m. EST on March 24, 2008.

Address for Submitting Proposals: To apply for this NOAA Federal funding opportunity, please submit applications to http://www.grants.gov and use the following funding opportunity number NMFS-NEFSC-2009-2001252. Applicants who do not have Internet access may submit their application to Cheryl A. Corbett, NMFS, Northeast Fisheries Science Center, 166 Water Street, Woods Hole, MA 02543, or by phone at 508-495-2070, or fax at 508-495-2004, or via e-mail at cheryl.corbett@noaa.gov.

Information Contacts: Information may be obtained from Clay Heaton, Fishery Management Specialist, Mid-Atlantic Fishery Management Council, by phone 302-674-2331 ext. 13, or via email at cheaton@mafmc.org; or Cheryl A. Corbett, Cooperative Programs Specialist, NMFS, Northeast Fisheries Science Center, 166 Water Street, Woods Hole, MA 02543, or by phone at 508-495-2070, or fax at 508-495-2004, or via e-mail at cheryl.corbett@noaa.gov.

Eligibility: Eligible applicants include institutions of higher education, hospitals, other nonprofits, commercial organizations, individuals, and state, local, and Native American tribal governments. Federal agencies and institutions are not eligible to receive Federal assistance under this notice. Additionally, employees of any Federal agency or Regional Fishery Management Council are ineligible to submit an application under this program. However, Council members who are not Federal employees may submit an application. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions. DOC/NOAA encourages applications from members of the fishing community and applications that involve fishing community cooperation and participation.

Cost Sharing Requirements: No cost sharing is required under this program.

Intergovernmental Review: Applicants will need to determine if their state participates in the intergovernmental review processs. This information can be found at the following website: http://www.whitehouse.gov/omb/grants/spoc.html. This information will assist applicants in providing either a Yes or No response to Item 16 of the Application Form, SF-424, entitled “Application for Federal Assistance.”

2. Pacific Coastal Salmon Recovery Fund

Summary Description: NOAA announces the availability of Pacific Coastal Salmon Recovery Funds (PCSRF), as authorized in the Northern Boundary and Transboundary Rivers Restoration and Enhancement Fund and Southern Boundary Restoration and Enhancement Fund (16 U.S.C. 3645 et seq.), to support the restoration and conservation of Pacific salmon and steelhead populations and their habitat. The program provides funding to the States of Alaska, Washington, Oregon, Idaho and California for salmon habitat restoration, salmon stock enhancement, sustainable salmon fisheries and salmon research. It also provides funding to the Pacific Coastal tribes and the Columbia River tribes as authorized in 16 U.S.C. 3645(d)(2)(B) for salmon habitat restoration, salmon stock enhancement, salmon research and supplementation activities.

Funding Availability: Up to $67,000,000 may be available in fiscal year (FY) 2008 for projects as authorized under 16 U.S.C. 3645 (d)(2). There are no restrictions on minimum funding request, but there is a limit of $25,000,000 on a maximum amount requested by any recipient. Award periods may be up to a maximum of 5 years. Actual funding availability for this program is contingent upon FY 2008 Congressional appropriations.

Statutory Authority: 16 U.S.C. 3645 (d)(2)

Catalog of Federal Domestic Assistance (CFDA) Number: 11.438, Pacific Coast Salmon Recovery - Pacific Salmon Treaty Program

Application Deadline: Applications should be submitted via www.grants.gov and must be received no later than 11:59 pm PST on March 24, 2008. No facsimile or electronic mail applications will be accepted. Paper applications must be postmarked by March 24, 2008. Any application transmitted or postmarked, as the case may be, after the deadline will be considered non-responsive and will not be considered for funding in this competition.

Address for Submitting Proposals: If an applicant does not have internet access, applications can be submitted to the following address: Nicolle Hill, NMFS Northwest Region Building #1, 7600 Sand Point Way, Seattle, WA 98115. NMFS' Internet website at www.nwr.noaa.gov contains additional information on PCSRF.

Information Contacts: For further information on PCSRF, please contact Barry Thom, NMFS Northwest Region Deputy Regional Administrator, at (503) 231-6266. Questions regarding this announcement should be directed to Nicolle Hill, NMFS Northwest Region PCSRF Federal Program Officer, at (206) 526-4358 or Nicolle.Hill@noaa.gov.

Eligibility: Eligible state applicants are the States of Alaska, Washington, Oregon, Idaho and California. Eligible tribal applicants are any federally recognized Pacific Coastal or Columbia River tribes in Washington, Oregon, California or Idaho.

Cost Sharing Requirements: Applicants are required to provide 33 percent of received Federal funds. Indian tribes are exempt from any cost share requirement.

Intergovernmental Review: Applications under this program from state or local governments are subject to the provisions of Executive Order 12372, “Intergovernmental Review of Federal Programs.”

National Weather Service (NWS)

1. Remote Community Alert Systems Program

Summary Description: The Remote Community Alert Systems Program represents an NOAA/NWS effort to provide for outdoor alerting technologies in remote communities effectively underserved by commercial mobile service for the purpose of enabling residents of those communities to receive emergency messages. These activities will engage the private sector, academia, and States in opportunities and technologies to further disseminate emergency messages. This program is a contributing element of the Warning, Alert, and Response Network (WARN) Act. NOAA's program is designed to complement other agency contributions to that national effort. The Federal Communications Commission has defined a remote area to consist of a county with a population density of 100 persons per square mile or less, based on the most recently available Census data. Also, commercial mobile service means those services that are required to provide E911 services in accordance with Section 20.18 of the Commissions rules. Effectively underserved identifies remote communities that do not receive commercial mobile service as demonstrated by coverage maps, technical analyses, field tests, or any other reasonable means.

Funding Availability: The total funding amount available for proposals is anticipated to be approximately $5,000,000. We anticipate making multiple awards approximately 50 ranging from $50,000 to $250,000.

Statutory Authority: Authority for the Remote Community Alert Systems Program is provided by: 47 U.S.C. 1204.

Catalog of Federal Domestic Assistance (CFDA) Number: 11.468, Applied Meteorological Research

Application Deadline: Proposals must be received by NOAA/NWS no later than 5 p.m., April 11, 2008. Proposals should be submitted through www.grants.gov. For those organizations without internet access, proposals may be sent to Craig Hodan, NOAA/NWS, 1325 East-West Highway, Room 3348, Silver Spring, Maryland 20910, Phone: 301-713-9480 x 187, email: craig.hodan@noaa.gov. Email and fax submissions will not be accepted.

Information Contacts: Craig Hodan, NOAA/NWS, 1325 East-West Highway, Room 3348, Silver Spring, Maryland 20910, Phone: 301-713-9480 x 187, email: craig.hodan@noaa.gov.

Eligibility: Eligible applicants are States and Tribal Communities. This restriction is needed due to the potential number of applications.

Cost Sharing Requirements: No cost sharing is required under this program.

Intergovernmental Review: Applications under this program are not subject to Executive Order 12372, Intergovernmental Review of Federal Programs.

III. Classification

Limitation of Liability

Funding for potential projects in this notice is contingent upon the availability of Fiscal year 2008 appropriations. Applicants are hereby given notice that funds have not yet been appropriated for any proposed activities in this notice. In no event will NOAA or the Department of Commerce be responsible for proposal preparation costs. Publication of this announcement does not oblige NOAA to award any specific project or to obligate any available funds.

Universal Identifier

For programs that have deadline dates on or after October 1, 2003, applicants should be aware that they may be required to provide a Dun and Bradstreet Data Universal Numbering System (DUNS) number during the application process. See the October 30, 2002 Federal Register, (67 FR 661770 for additional information. Organizations can receive a DUNS number at no cost by calling the dedicated toll-free DUNS Number request line at 1-866-705-5711 or via the internet (http://www.dunandbradstreet.com).

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216--6--TOC.pdf, NEPA Questionnaire, http://www.nepa.noaa.gov/questionnaire.pdf, and the Council on Environmental Quality implementation regulations, http://ceq.eh.doe.gov/nepa/regs/ceq/toc--ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Compliance with Department of Commerce Bureau of Industry and Security Export Administration Regulations

a. This section applies to the extent that this BAA results in financial assistance awardsinvolving access to export-controlled information or technology.

b. In performing a financial assistance award, the recipient may gain access to export-controlled information or technology. The recipient will then be responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

c. Definitions

1. Deemed export. The Export Administration Regulations (EAR) define a deemed export as any release of technology or source code subject to the EAR to a foreign national, both in the United States and abroad. Such release is “deemed” to be an export to the home country of the foreign national. 15 CFR 734.2(b)(2)(ii).

2. Export-controlled information and technology. Export-controlled information and technology is information and technology subject to the EAR (15 CFR parts 730 et seq.), implemented by the DOC Bureau of Industry and Security, or the International Traffic Arms Regulations (ITAR) (22 CFR parts 120-130), implemented by the Department of State, respectively. This includes, but is not limited to, dual-us items, defense articles and any related assistance, services, software or technical data as defined in the EAR and ITAR.

d. The recipient shall control access to all export-controlled information and technology that it possesses or that comes into its possession in performance of a financial assistance award, to ensure that access is restricted, or licensed, as required by applicable Federal laws, Executive Orders, and/or regulations.

e. Nothing in the terms of this section is intended to change, supersede, or waive any of the requirements of applicable Federal laws, Executive Orders or regulations.

f. The recipient shall include this clause, including this paragraph (f), in all lower tier transactions (subawards, contracts, and subcontracts) under the financial assistance award that may involve access to export-controlled information technology.

NOAA implementation of Homeland Security Presidential Directive - 12

If the performance of a financial assistance award, if approved by NOAA, requires recipients to have physical access to Federal premises for more than 180 days or access to a Federal information system, any items or services delivered under a financial assistance award shall comply with the Department of Commerce personal identity verification procedures that implement Homeland Security Presidential Directive -12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements

The Department of Commerce Pre-Award Notification Requirements for Grants and Cooperative Agreements contained in the Federal Register notice of December 30, 2004 (69 FR 78389) are applicable to this solicitation.

Paperwork Reduction Act

This document contains collection-of-information requirements subject to thePaperwork Reduction Act (PRA). The use of Standard Forms 424, 424A, 424B, SF LLL, CD-346, SF 424 Research and Related Family, SF 424 Short Organizational Family, SF 424 Individual Form family has been approved by the Office of Management and Budget (OMB) under the respective control numbers 4040-0004, 0348-0044, 0348-0040, 0348-0046, 0605-0001, 4040-0001, 4040-0003, and 4040-0005. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: February 4, 2008.
Helen Hurcombe
Director, Acquisition and Grants Office, National Oceanic and Atmospheric Administration.

[FR Doc. E8-2350 Filed 2-7-08; 8:45 am]

BILLING CODE 3510-PJ-S